DEPARTMENT OF TRANSPORTATION

Federal Aviation Administration

14 CFR Part 71

[Docket No. FAA-2005-225010; Airspace Docket No. 06-AAL-17]

RIN 2120-AA66

Revocation of Low Altitude Reporting Point; AK

AGENCY: Federal Aviation Administration (FAA), DOT.

ACTION: Final rule.

SUMMARY: This action revokes the Bishop Nondirectional Radio Beacon (NDB) as an Alaskan low altitude reporting point. The FAA has determined that this reporting point should be removed from the National Airspace System (NAS), since the Bishop NDB was de-commissioned and is no longer in service.

DATES: Effective Date: 0901 UTC, September 28, 2006.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Background

In October 2005, it was determined that continued operation of the Bishop, AK, NDB was in jeopardy at its current location because of riverbank erosion along the Yukon River to within 150 feet of the NDB site. The Bishop NDB was removed from service in early 2006 and action was taken by the FAA to reconfigure airways to exclude the Bishop NDB. The Bishop low altitude reporting point is no longer used by the FAA.

The Rule

This action amends Title 14 Code of Federal Regulations (14 CFR) part 71 by revoking the Bishop NDB low altitude reporting point. The Bishop low altitude reporting point no longer exists. Accordingly, since this action only involves a change in the legal description, notice and public procedure under 5 U.S.C. 533(b) are unnecessary.

Alaska low altitude reporting points are published in paragraph 7004 of FAA Order 7400.9O dated September 1, 2006, and effective September 15, 2006, which is incorporated by reference in 14 CFR 71.1. The low altitude reporting points listed in this document will be removed subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9O, Airspace Designations and Reporting Points, dated September 1, 2006, and effective September 15, 2006, is amended as follows:

Paragraph 7004 Alaskan Low Altitude Reporting Points.

* * * * *

Bishop NDB, AK [Revoked]

* * * * *

Issued in Washington, DC, on June 21, 2006.
Edith V. Parish,
Manager, Airspace and Rules.

[FR Doc. E6-10285 Filed 6-29-06; 8:45 am]

BILLING CODE 4910-13-P